NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: May 4, 2011; 8:30 a.m. to 5 p.m.; May 5, 2011; 8:30 a.m. to 1 p.m.

Place: The Arlington Hilton, 950 North Stafford Street, Gallery II, Mezzanine Level, Arlington, VA 22203.

Type of Meeting: Open.

Contact Person: James Colby, National Science Foundation, 4201 Wilson Boulevard, Arlington, VA 22230, (703) 292-5331, jcolby@nsf.gov.

Purpose of Meeting: To provide advice with respect to the Foundation's science, technology, engineering, and mathematics (STEM) education and human resources programming.

Agenda

May 4, 2011 (Wednesday)

Report from the NSF Assistant Director for Education and Human Resources.

Update on Strategic Vision Working Groups:

• Putting the “STEM” in STEM Education.

• Preparing and Sustaining K-12 STEM Educators.

• Preparing and Shaping the STEM Workforce.

Overview and Discussion: FY 2012 Budget Request.

Visit with NSF Director and Deputy Director.

May 5, 2011 (Thursday)

Receipt of Committee of Visitor Reports for:

• Math and Science Partnership program.

• Federal Cyber Service: Scholarship for Service program.

• NSF Scholarships in Science, Technology, Engineering, and Mathematics.

Discussion of future STEM program planning.

Adjournment.

Dated: April 7, 2011.
Susanne Bolton,
Committee Management Officer.

[FR Doc. 2011-8723 Filed 4-11-11; 8:45 am]

BILLING CODE 7555-01-P